ENVIRONMENTAL PROTECTION AGENCY

40 CFR Part 81

[EPA-R05-OAR-2016-0277; FRL-9960-91-Region 5]

Reclassification of the Sheboygan, Wisconsin Area To Moderate Nonattainment for the 2008 Ozone National Ambient Air Quality Standards; Correction

AGENCY: Environmental Protection Agency (EPA).

ACTION: Final rule; correction.

SUMMARY: The Environmental Protection Agency (EPA) published a final rule in the Federal Register on December 19, 2016, revising its regulations entitled “Designation of Areas for Air Quality Planning Purposes” for the 2008 ozone National Ambient Air Quality Standards (NAAQS). An error in the table for the Wisconsin 2008 8-Hour Ozone NAAQS is identified and corrected in this action.

DATES: This final rule is effective on April 6, 2017.

FOR FURTHER INFORMATION CONTACT: Kathleen D'Agostino, Environmental Scientist, Attainment Planning and Maintenance Section, Air Programs Branch (AR-18J), Environmental Protection Agency, Region 5, 77 West Jackson Boulevard, Chicago, Illinois 60604, (312) 886-1767, dagostino.kathleen@epa.gov.

SUPPLEMENTARY INFORMATION: EPA published a final rule document on December 19, 2016, (81 FR 91841) updating 40 CFR part 81, “Designation of Areas for Air Quality Planning Purposes” for the 2008 8-Hour Ozone NAAQS. This final rule included a revision to 40 CFR 81.350 reclassifying the Sheboygan, Wisconsin area (Sheboygan County) as “moderate” nonattainment for the 2008 ozone NAAQS. The entry for the Sheboygan County designated area in the Wisconsin-2008 8-Hour Ozone NAAQS (Primary and secondary) table erroneously indicated that the effective date of the classification is January 18, 2017 when, in fact, the effective date should have been December 19, 2016. 81 FR 91846. Therefore, the entry for the Sheboygan County area is being corrected to reflect the correct classification date.

List of Subjects in 40 CFR Part 81

Environmental protection, Air pollution control, National parks, Wilderness areas.

Dated: March 21, 2017.
Robert A. Kaplan,
Acting Regional Administrator, Region 5.

40 CFR part 81 is amended by the following correcting amendment:

PART 81—DESIGNATION OF AREAS FOR AIR QUALITY PLANNING PURPOSES

1. The authority citation for part 81 continues to read as follows:

Authority: 42 U.S.C. 7401 et seq.

2. In § 81.350, the table entitled “Wisconsin-2008 8-Hour Ozone NAAQS (Primary and secondary)” is amended by revising the entry for “Sheboygan County, WI:” to read as follows:

§ 81.350 Wisconsin.

* * * * *

Wisconsin—2008 8-Hour Ozone NAAQS
[Primary and secondary]
Designated area | Designation: Date ¹ | Designation: Type | Classification: Date ¹ | Classification: Type
* * * * * * *
Sheboygan County, WI: ² Sheboygan County |  | Nonattainment | 12/19/2016 | Moderate.
* * * * * * *
¹ This date is July 20, 2012, unless otherwise noted.
² Excludes Indian country located in each area, unless otherwise noted.

* * * * *

[FR Doc. 2017-06888 Filed 4-5-17; 8:45 am]

BILLING CODE 6560-50-P